CONSUMER PRODUCT SAFETY COMMISSION

Sunshine Act Meeting

TIME AND DATE: Tuesday May 12, 2015, 9 a.m.-11 a.m.

PLACE: Hearing Room 420, Bethesda Towers, 4330 East West Highway, Bethesda, Maryland.

STATUS: Commission Meeting—Open to the Public

Matter To Be Considered: Decisional Matter: Fiscal Year 2015 Mid-Year Review and Operating Plan.

A live webcast of the Meeting can be viewed at www.cpsc.gov/live.

For a recorded message containing the latest agenda information, call (301) 504-7948.

CONTACT PERSON FOR MORE INFORMATION: Todd A. Stevenson, Office of the Secretary, U.S. Consumer Product Safety Commission, 4330 East West Highway, Bethesda, MD 20814, (301) 504-7923.

Dated: May 4, 2015.
Todd A. Stevenson,
Secretariat.

[FR Doc. 2015-11112 Filed 5-5-15; 11:15 am]

BILLING CODE 6355-01-P